DEPARTMENT OF HOMELAND SECURITY

Coast Guard

[Docket No. USCG-2023-0251]

National Merchant Mariner Medical Advisory Committee; Vacancies

AGENCY: U.S. Coast Guard, Department of Homeland Security.

ACTION: Request for applications.

SUMMARY: The U.S. Coast Guard seeks applications to fill two member vacancies on the National Merchant Mariner Medical Advisory Committee (Committee). This Committee advises the Secretary of the Department of Homeland Security through the Commandant of the United States Coast Guard on matters relating to the medical certification determinations for the issuance of licenses, certification of registry, and merchant mariners' documents with respect to merchant mariners; medical standards and guidelines for the physical qualifications of operators of commercial vessels; medical examiner education; and medical research.

DATES: Completed applications should reach the U.S. Coast Guard on or before September 12, 2023.

ADDRESSES: Applications should include a cover letter expressing interest in an appointment to the National Merchant Mariner Medical Advisory Committee, a resume detailing the applicant's relevant experience for the position applied for (including the mariner reference number for the credentials held for professional mariner applicants), and a brief biography. Applications should be submitted via email with subject line “Application for NMEDMAC” to pamela.j.moore@uscg.mil.

FOR FURTHER INFORMATION CONTACT: Ms. Pamela Moore, Alternate Designated Federal Officer of the National Merchant Mariner Medical Advisory Committee; telephone 202-372-1361 or email at pamela.j.moore@uscg.mil.

SUPPLEMENTARY INFORMATION: The National Merchant Mariner Medical Advisory Committee is a Federal advisory committee. The Committee must operate under the provisions of the Federal Advisory Committee Act, (Pub. L. 117-286, 5 U.S.C. ch. 10), and 46 U.S.C. 15109.

The Committee was established on December 4, 2018, by section 601 of the Frank LoBiondo Coast Guard Authorization Act of 2018 (Pub. L. 115-282, 132 Stat. 4192), and is codified in 46 U.S.C. 15104.

The Committee is required to meet at least once a year in accordance with 46 U.S.C. 15109(a). We expect the Committee will hold meetings at least twice a year, at locations across the country selected by the U.S. Coast Guard.

Under provisions in 46 U.S.C. 15109(f)(6), if you are appointed as a member of the Committee, your membership term will expire on December 31st of the third full year after the effective date of your appointment. Under 46 U.S.C. 15109(f)(4), the Secretary of Homeland Security may require an individual to have passed an appropriate security background examination before appointment to the Committee.

All members serve at their own expense and receive no salary or other compensation from the Federal Government. Members may be reimbursed for travel and per diem in accordance with Federal Travel Regulations. If you are appointed as a member of the Committee, you will be required to sign a Non-Disclosure Agreement and a Gratuitous Services Agreement.

In this solicitation for Committee members, we will consider applications for two (2) positions:

• One shall be a health-care professional with particular expertise, knowledge, and experience regarding the medical examinations of merchant mariners or occupational medicine and represent health-care professionals.

• One shall be a professional mariner who has expertise, knowledge, and experience in occupational requirements for mariners and represent professional mariners.

Each member of the Committee must have particular expertise, knowledge, and experience on matters relating to (1) medical certification determinations for the issuance of licenses, certification of registry, and merchant mariners' documents with respect to merchant mariners; (2) medical standards and guidelines for the physical qualifications of operators of commercial vessels; (3) medical examiner education; and (4) medical research.

The members who will hold the two positions described above will be appointed to represent the interest of their respective groups and viewpoints and are not Special Government Employee as defined in 18 U.S.C. 202(a).

In order for the Department, to fully leverage broad-ranging experience and education, the National Merchant Mariner Medical Advisory Committee must be diverse with regard to professional and technical expertise. The Department is committed to pursuing opportunities, consistent with applicable law, to compose a committee that reflects the diversity of the Nation's people.

If you are interested in applying to become a member of the Committee, email your application to pamela.j.moore@uscg.mil as provided in the ADDRESSES section of this notice. Applications must include: (1) a cover letter expressing interest in an appointment to the National Merchant Mariner Medical Advisory Committee; (2) a resume detailing the applicant's relevant experience and (3) a brief biography of the applicant by the deadline in the DATES section of this notice. The U.S. Coast Guard will not consider incomplete or late applications.

Dated: June 27, 2023.
Jeffrey G. Lantz,
Director of Commercial Regulations and Standards.

[FR Doc. 2023-14947 Filed 7-13-23; 8:45 am]

BILLING CODE 9110-04-P